DEPARTMENT OF TRANSPORTATION

Federal Motor Carrier Safety Administration

49 CFR Parts 385, 386, 390, and 395

[Docket No. FMCSA-2010-0167]

RIN 2126-AB20

Electronic Logging Devices and Hours of Service Supporting Documents

AGENCY: Federal Motor Carrier Safety Administration (FMCSA), DOT.

ACTION: Supplemental notice of proposed rulemaking; extension of comment period.

SUMMARY: FMCSA extends the public comment period for the Agency's March 28, 2014, supplemental notice of proposed rulemaking (SNPRM) concerning the Electronic Logging Devices (ELD) and Hours of Service Supporting Documents rulemaking.

DATES: FMCSA is extending the comment period for the supplemental notice of proposed rulemaking published on March 28, 2014 (79 FR 17656). You must submit comments by June 26, 2014.

ADDRESSES: You may submit comments, identified by docket number FMCSA-2010-0167 or RIN 2126-AB20, by any of the following methods:

• Federal eRulemaking Portal: http://www.regulations.gov.

• Fax: 1-202-493-2251.

• Mail: Docket Management Facility (M-30), U.S. Department of Transportation, West Building Ground Floor, Room W12-140, 1200 New Jersey Avenue SE., Washington, DC 20590-0001.

• Hand delivery: Same as mail address above, between 9 a.m. and 5 p.m. ET, Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: Ms. Deborah M. Freund, Vehicle and Roadside Operations Division, Office of Bus and Truck Standards and Operations, Federal Motor Carrier Safety Administration, 1200 New Jersey Avenue SE., Washington, DC 20590-0001 or by telephone at 202-366-5370.

SUPPLEMENTARY INFORMATION:

I. Public Participation and Request for Comments

FMCSA encourages you to participate in this rulemaking by submitting comments, data, and related materials. All comments received will be posted without change to http://www.regulations.gov and will include any personal and/or copyrighted information you provide.

A. Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number “FMCSA-2010-0167” and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

B. Viewing Comments and Documents

To view comments, as well as any documents mentioned in this preamble, and to submit your comment online, go to http://www.regulations.gov and in the search box insert the docket number “FMCSA-2010-0167” and click “Search.” Next, click “Open Docket Folder” and you will find all documents and comments related to the proposed rulemaking.

C. Privacy Act

Anyone is able to search the electronic form for all comments received into any of our dockets by the name of the individual submitting the comment (or signing the comment, if submitted on behalf of an association, business, labor union, etc.). You may review the USDOT Privacy Act system of records notice for the DOT Federal Docket Management System (FDMS) in the Federal Register published on December 29, 2010 (75 FR 82132) at http://www.gpo.gov/fdsys/pkg/FR-2010-12-29/pdf/2010-32876.pdf.

II. Background

On March 28, 2014, FMCSA published an SNPRM (79 FR 17656). This SNPRM included a proposal that would improve commercial motor vehicle (CMV) safety and reduce the overall paperwork burden for both motor carriers and drivers by increasing the use of ELDs within the motor carrier industry, which would in turn improve compliance with the applicable Hours of Service (HOS) rules. Specifically, this rule proposed to: (1) Require new technical specifications for ELDs that address statutory requirements; (2) mandate ELDs for drivers currently using record of duty status; (3) clarify supporting document requirements so that motor carriers and drivers can comply efficiently with HOS regulations, and so that motor carriers can make the best use of ELDs and related support systems as their primary means of recording HOS information and ensure HOS compliance; and (4) adopt procedural and technical provisions aimed at ensuring that ELDs are not used to harass vehicle operators.

On May 7, 2014 the Commercial Vehicle Safety Alliance (CVSA) requested the Agency for an extension of the comment period for the SNPRM. A copy of the request is included in the docket as comment FMCSA-2010-0167-0858 (available at: http://www.regulations.gov/#!documentDetail;D=FMCSA-2010-0167-0858). CVSA believes that due to the complexity and significance of the rulemaking, including the new technical standards, the public comment period should be extended by 30 days.

The FMCSA acknowledges CVSA's concerns. After reviewing the request, FMCSA has decided to grant a 30-day extension, to June 26, to provide all interested parties additional time to submit comments on this rulemaking.

Issued on: May 12, 2014.
Larry W. Minor,
Associate Administrator for Policy.

[FR Doc. 2014-11244 Filed 5-15-14; 8:45 am]

BILLING CODE 4910-EX-P